DEPARTMENT OF COMMERCE

International Trade Administration

[A-557-805]

Extruded Rubber Thread From Malaysia; Rescission of Antidumping Duty Administrative Review

AGENCY: Import Administration, International Trade Administration, Department of Commerce.

ACTION: Notice of rescission of the Antidumping Duty Administrative Review for the Period October 1, 2000, through September 30, 2001.

EFFECTIVE DATE: April 15, 2002.

FOR FURTHER INFORMATION CONTACT: Irina Itkin or Elizabeth Eastwood, Office of AD/CVD Enforcement Group I, Import Administration, International Trade Administration, U.S. Department of Commerce, 14th Street and Constitution Avenue, NW., Washington, DC 20230; telephone: (202) 482-0656 or (202) 482-3874, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department)'s regulations are to 19 CFR part 351 (2001).

Background

On October 1, 2001, the Department published in the Federal Register (66 FR 49923) a notice of opportunity to request an administrative review of the antidumping order regarding extruded rubber thread from Malaysia for the period October 1, 2000, through September 30, 2001. In accordance with 19 CFR 351.213(b)(2), on October 31, 2001, two producers/exporters of extruded rubber thread requested a review of the antidumping duty order on extruded rubber thread from Malaysia (i.e., Filati Lastex Sdn. Bhd. (Filati) and Heveafil Sdn. Bhd. (Heveafil)).

In November 2001, the Department initiated an administrative review for each of these companies (66 FR 58432 (Nov. 21, 2001)) and issued questionnaires to them.

On February 8, 2002, Filati withdrew its request for review.

On February 15, 2002, Heveafil requested an extension of the 90-day limit to withdraw its request for a review until March 29, 2002. We granted this extension on February 19, 2002, and on March 27, 2002, Heveafil withdrew its request for review.

Rescission of Review

Filati and Heveafil withdrew their requests for an administrative review for the above-referenced period on February 8 and March 27, 2002, respectively. Therefore, because no other interested party requested a review of Filati or Heveafil for this POR, in accordance with 19 CFR 351.213(d)(1) and consistent with our practice, we are rescinding this review of the antidumping duty order on extruded rubber thread from Malaysia for the period of October 1, 2000, through September 30, 2001. This notice is published in accordance with section 751 of the Act and 19 CFR 351.213(d)(4).

Dated: April 9, 2002.
Richard W. Moreland,
Deputy Assistant Secretary, Import Administration.

[FR Doc. 02-9080 Filed 4-12-02; 8:45 am]

BILLING CODE 3510-DS-P